DEPARTMENT OF TRANSPORTATION

Federal Transit Administration

American Recovery and Reinvestment Act of 2009 Public Transportation Capital Investment Grants Program Appropriation and Allocations

AGENCY: Federal Transit Administration (FTA), DOT.

ACTION: Notice.

SUMMARY: The “American Recovery and Reinvestment Act, 2009” (Pub. L. 111-5; “ARRA”), signed into law by President Barack Obama on February 17, 2009, includes $8.4 billion for transit capital improvements. The Federal Transit Administration (FTA) published in the Federal Register the transit formula program-related provisions of the ARRA, as well as program and grant application requirements for these funds, on March 5, 2009. This notice implements the Capital Investment Grants Program provisions of the ARRA and provides program and grant application requirements for these funds, for FTA's New Starts and Small Starts programs.

DATES: FTA may de-obligate and reallocate certain undisbursed funds by May 11, 2010.

FOR FURTHER INFORMATION CONTACT: For general information about this notice contact Henrika Buchanan-Smith, Director, Office of Transit Programs, at (202) 366-2053. Please contact the appropriate FTA regional or metropolitan office (Appendix B) for any specific requests for information or technical assistance.

SUPPLEMENTARY INFORMATION:

Table of Contents

I. Overview of This Notice

II. Capital Investment Grants Program

A. FY 2009 ARRA Funding Availability

B. Basis for Allocation

C. Program Requirements and Period of Availability

D. Reporting Requirements and Certifications Applicable to Recipients of ARRA Funds

E. Technical Assistance

Allocation Table for ARRA Capital Investment Grants Program

Appendix A: Grant Application Instructions

Appendix B: Regional Contact Information

I. Overview of This Notice

The American Recovery and Reinvestment Act of 2009 (ARRA) includes appropriations and tax law changes totaling approximately $787 billion to support multi-pronged efforts to stimulate the economy. Goals of the statute include the preservation and creation of jobs and promotion of economic recovery, as well as the investment in transportation, environmental protection and other infrastructure providing long-term economic benefits to the Nation.

ARRA provides $8.4 billion for public transportation. ARRA's formula transit programs—the Capital Transit Assistance program and the Fixed Guideway Infrastructure Investment program—were the subject of FTA's March 5, 2009 Federal Register notice. The March 5 notice further provided an overview of the ARRA's transit provisions and established the principles, policies, and procedures that would apply to all ARRA formula transit programs. Readers interested in how FTA intends to implement ARRA's formula transit program resources should refer to the March 5 notice for more information. Published separately are two discretionary program Federal Register notices under the ARRA Transit Capital Assistance Program: $17 million for the Tribal Transit Program (published March 23, 2009) and $100 million for a new Transit Investments for Greenhouse Gas and Energy Reduction (TIGGER) Program (published March 24, 2009).

This Federal Register notice provides allocations of ARRA's third and largest discretionary transit capital program. The Capital Investment Grants Program makes available $750 million for FTA's discretionary New and Small Starts Programs. The basis for FTA's allocation of this funding is described within this notice, as are program grant and reporting requirements and the period of availability of Capital Investment Grants funding. This notice also includes contact information for FTA regional and metropolitan offices.

II. Capital Investment Grants Program—New Starts/Small Starts

The Capital Investment Grants Program authorizes the Secretary of Transportation to make discretionary grants as authorized under 49 U.S.C. 5309(d) and (e). This program will be implemented consistent with the requirements of the New Starts and Small Starts Programs, which provide funds for construction of major capital investments in new fixed guideway systems, extensions to existing fixed guideway systems, or, in the case of Small Starts, certain corridor-based bus projects. The $750 million provided for the program is estimated to support over 20,000 direct and indirect jobs and will expedite the delivery of new major capital rail and bus investments in several cities across the Nation. For more information about New or Small Starts project development contact Elizabeth Day, Director of the Office of Project Planning, at (202) 366-5159, or for information about published allocations contact Aaron C. James, Sr., Director of the Office of Engineering, at (202) 493-0107.

A. FY 2009 ARRA Funding Availability

The ARRA provides $750,000,000 to New Starts and Small Starts projects under the Capital Investment Grants Program. The total amount apportioned for projects is $742,500,000, after a one percent takedown for oversight and administrative expenses provided in ARRA as shown in the table below.

Capital Investment Grants
Total Appropriation | $750,000,000
Administrative and Program Management Oversight Deduction | −$7,500,000
Total Apportioned | $742,500,000

B. Basis for Allocation

This notice allocates all ARRA funding for the Capital Investment Grants Program. In making these allocations, FTA considered both the specific direction provided in the legislation as well as Congress' and the Administration's general objectives for accountability and transparency in the administration of ARRA funds. These objectives include the prompt and fair distribution of funding, the assurance that funds are being used for authorized purposes, and that instances of waste, fraud, and abuse are avoided. FTA also wanted to ensure that projects funded with ARRA discretionary resources demonstrated merit by meeting the statutory project justification and local financial commitment criteria of the New Starts and Small Starts Programs.

ARRA provides that when FTA is selecting projects to be funded, “priority shall be given to projects that are currently in construction or are able to obligate funds within 150 days of enactment” of ARRA on February 17, 2009. The provisions of 49 U.S.C. 5309(d) and (e) are not waived by ARRA. Accordingly, FTA analyzed the schedules and construction cash flow needs of ten New Starts projects and one Small Starts project under construction or with Federal pay-out schedules established in their Full Funding Grant Agreements (FFGAs) or Project Construction Grant Agreement (PCGA) extending beyond Fiscal Year (FY) 2009. FTA also reviewed the capacity of these projects' existing contracts and of new contracts expected to be awarded by July 2009. The analysis showed that most of the eleven projects considered for ARRA Capital Investment Grants funding demonstrated some contract capacity to absorb additional revenues, but that projects differed in their assessed ability (based on current construction and debt payoff schedules) to rapidly make use of ARRA funding. As the contract capacity of the eleven projects combined exceeded the amount of available ARRA Capital Investment Grants resources—and because FTA could not be assured that any other project in the New Starts or Small Starts pipeline not in construction could obligate a significant amount of funding within 150 days of ARRA enactment—FTA limited its allocation of discretionary funding to this set of eleven major capital investments.

Consequently, a two-step funding allocation approach was used. In the first step, each of the eleven New Starts projects was allocated an amount equal to 40 percent of its FY 2010 scheduled pay-out, while the Pioneer Parkway EmX Bus Rapid Transit Small Starts project in Springfield, Oregon was allocated an amount equal to its entire FY 2010 pay-out of $2,940,000, thus completing the Federal funding commitment to the project. The step-one allocation totaled $457,680,000 of the available $742,500,000. In the second step, the remaining $284,820,000 was distributed proportionally among five New Starts investments in construction with projected contract expenditures in calendar year 2009 that are higher than their FY 2009 scheduled New Starts pay-out. FTA believes that by accelerating Federal funding to these eleven projects, their sponsors will achieve one or more possible positive outcomes, including an acceleration of the schedule of construction for a project, a reduction in project finance costs, and/or the re-distribution of planned project resources to other local transit priorities.

The allocation of Capital Investment Grants Program funding is presented in the Allocation Table of this notice. The total Federal funding commitment for each project will not change. However, each FFGA's final scheduled New Starts pay-out will be reduced by the amounts allocated in this Federal Register notice. The allocation of ARRA Capital Investment Grants funding to liquidate New Starts and Small Starts commitments will make available anew previously committed Federal New or Small Starts commitment authority. The additional commitment authority created by this $750 million allocation totals $1.5 billion due to the statutory method for calculating commitment authority. This allocation has the benefit of maximizing commitment authority. This will allow FTA to make additional New or Small Starts commitments in the coming months and contribute to the creation of jobs associated with additional construction of new major capital transit projects. In the absence of ARRA resources and this allocation approach, the additional commitment authority to initiate new major capital transit projects would not exist.

C. Program Requirements and Period of Availability

Providing additional funding to major capital projects under the Recovery program will help New Starts and Small Starts project delivery, as well as National economy and local economies. To maximize the effectiveness of these funding decisions, FTA is requiring that all ARRA Capital Investment Grants funds be drawn down (outlayed) by May 11, 2010. FTA may de-obligate any ARRA Capital Investment Grants Program funding not drawn down by recipients within the one-year period. FTA encourages project sponsors identified in this notice to apply for ARRA funds as soon as possible. This will ensure the ability to incur costs and draw funds from the Treasury within the year, thereby sustaining and creating public transportation construction jobs.

In recognition of the difficulty that some recipients may experience in accelerating local matching resources, and to ensure the timely expenditure of ARRA funds, FTA will permit, as a condition of the grant, a deferral of the non-Federal match. Grantees may defer provision of this local match simultaneously with the Federal funds' draw down rate for up to three years after the date of the FTA ARRA grant award, with a possible extension at FTA's discretion. However, local match to all ARRA Capital Investment Grants funding must be available by the end of the project's New Starts/Small Starts pay-out period, even if this is less than three years from the date of the ARRA grant. Each grantee should work with its FTA regional office on specific wording of this condition if interested in using the deferral provision.

Since ARRA Capital Investment Grants Program funding is being administered through existing multi-year full funding grant agreements, additional information can be found in FTA Circular (5200.1A, Full Funding Grant Agreements Guidance, December 5, 2002).

D. Reporting Requirements and Certifications Applicable to Recipients of ARRA Funds

As a condition of award, grantees receiving ARRA funds will be required to report on grant activities on a routine basis. FTA grantees will be responsible for reporting up-to-date and accurate information in the milestone status report and financial status report on a quarterly basis, as well as additional data elements that are required to be reported in http://www.recovery.gov. Additionally, special certifications and grant conditions also will be required of ARRA grant recipients. FTA will issue additional specific guidance on reporting requirements in the near future for your information. The ARRA statutory reporting requirements and certifications are identified below:

1. Section 1511: Certifications

For covered funds made available to State or local governments for infrastructure investments, the Governor, mayor, or other chief executive, as appropriate, is required to certify that the infrastructure investment has received the full review and vetting required by law and that the chief executive accepts responsibility that the infrastructure investment is an appropriate use of taxpayer dollars. Such certification must include a description of the investment, the estimated total cost, and the amount of covered funds to be used, and must be posted on a specified Web site. A State or local agency may not receive infrastructure investment funding from funds made available under ARRA unless this certification is made and posted.

On February 27, 2009, the United States Department of Transportation (USDOT) Secretary LaHood sent letters to all Governors providing guidance and a template for this certification and instructing them to send the Section 1511 certification and the other two certifications by the Governor described below to the Department at the following address: TigerTeam@dot.gov. A single certification by the Governor, based on the established planning process, and including a link to a Web site posting of the Statewide Transportation Improvement Program, which must contain the required section 1511 information for each investment, will satisfy the requirement for certification by the Governor for both Federal Highway Administration (FHWA) and FTA projects. If the 1511 certification previously submitted to DOT by the Governor does not include the project for which this funding is allocated, the mayor or other local official, as appropriate, may submit a new certification specific to the Capital Investments Grant project.

2. Section 1512. Reports on Use of Funds

Recipient Reports.—Not later than 10 days after the end of each calendar quarter, starting in October 10, 2009, each recipient that received ARRA funds from a Federal agency shall submit a report to that agency that contains—

(i) The total amount of ARRA funds received from that agency;

(ii) The amount of ARRA funds received that were expended or obligated to projects or activities; and

(iii) A detailed list of all projects or activities for which ARRA funds were expended or obligated, including—

(A) The name of the project or activity;

(B) A description of the project or activity;

(C) An evaluation of the completion status of the project or activity;

(D) An estimate of the number of jobs created and the number of jobs retained by the project or activity; and

(E) For infrastructure investments made by State and local governments, the purpose, total cost, and rationale of the agency for funding the infrastructure investment with funds made available under ARRA, and name of the person to contact at the agency if there are concerns with the infrastructure investment.

(iv) Detailed information on any subcontracts or subgrants awarded by the recipient to include the data elements required to comply with the Federal Funding Accountability and Transparency Act of 2006 (Pub. L. 109-282), allowing aggregate reporting on awards below $25,000 or to individuals, as prescribed by the Director of the Office of Management and Budget.

The data elements required to comply with Public Law 109-282 are: Name of entity receiving the award; the amount of the award; information on the award including transaction type, funding agency, the North American Industry Classification System Code or Catalog of Federal Domestic Assistance number (where applicable); program source; an award title descriptive of the purpose of each funding action; and employee compensation information for certain contracts under limited conditions.

The Office of Management and Budget (OMB) will collect these reports through a central Web-based reporting system and will provide further reporting instructions at a later date. Additional frequency of reporting may be required to be responsive to Congressional oversight requirements.

3. Section 1512(h) Registration

Recipients of ARRA funds that are required to report information per subsection (c)(4) must register with Central Contractor Registration database (CCR) or complete other registration requirements as determined by the Director of the Office of Management and Budget (OMB).

The reporting and registration requirements are effective with the quarter ending September 30, 2009. OMB has issued guidance requiring FTA and other Federal agencies to ensure that grantees and first tier subawardees (subrecipients and contractors) obtain a DUNS number, or update their DUNS record if necessary. OMB has also indicated that first tier subawardees will be required to register in CCR.

4. Section 1201(a) Maintenance of Effort

Not later than March 19, 2009, for each amount that is distributed to a State or its agency from an appropriation in ARRA for a covered program, the Governor of that State was required to certify to the Secretary of Transportation that the State will maintain its effort with regard to State funding for the types of projects that are funded by the appropriation. As part of this certification, the Governor was required to submit to the Secretary of Transportation a statement identifying the amount of funds the State planned to expend from State sources as of February 17, 2009, during the period of February 17, 2009 through September 30, 2010, for the types of projects that are funded by the appropriation.

This requirement applies only to State funding for transportation projects eligible for ARRA funding. DOT will treat this maintenance of effort requirement through one consolidated certification from the Governor to the Secretary, which must include State funding for transit projects, as well as highway and other transportation modal projects. As of March 19, 2009, all States and the District of Columbia had submitted the required maintenance of effort certification. The Department is currently reviewing these certifications for adequacy.

5. Section 1201(c)(2): Periodic Reports

For amounts received under each covered program by a grant recipient under ARRA, the grant recipient shall include in the periodic reports information tracking:

(A) The amount of Federal funds appropriated, allocated, obligated, and outlayed under the appropriation;

(B) The number of projects that have been put out to bid under the appropriation;

(C) The number of projects for which contracts have been awarded under the appropriation and the amount of Federal funds associated with such contracts;

(D) The number of projects for which work has begun under such contracts and the amount of Federal funds associated with such contracts;

(E) The number of projects for which work has been completed under such contracts and the amount of Federal funds associated with such contracts;

(F) The number of direct, on-project jobs created or sustained by the Federal funds provided for projects under the appropriation and, to the extent possible, the estimated indirect jobs created or sustained in the associated supplying industries, including the number of job-years created and the total increase in employment since February 17, 2009 and

(G) The actual aggregate expenditures by each grant recipient from State sources for projects eligible for funding under the program during the period of February 17, 2009 through September 30, 2010, as compared to the level of such expenditures that were planned to occur during such period as of the date of enactment of ARRA.

Each grant recipient is required to submit the first of the periodic reports including the Section 1201(c)(2) data required above by May 18, 2009 and is required to submit updated reports not later than August 16, 2009; February 17, 2010; February 17, 2011; and February 17, 2012.

DOT had developed a standard reporting form for these reports. FTA will provide further reporting instructions before the reports are due. Grantees will be required to report direct jobs, but the department will generate data on indirect and indirect jobs through the use of economic models and factors applied to the data provided in the grant awards and other information reported by the grantee. All States have acted to accept transportation funds.

6. Section 1607

Section 1607 requires that the Governor certify within 45 days of enactment (April 3, 2009) that, for funds provided, the state will request and use funds provided by this Act and the funds will be used to create jobs and promote economic health. If the Governor does not provide this certification, then the state legislature may act to accept the funds. All states have acted to accept transportation funds.

7. Section 1609

Under section 1609(c), FTA is required to report to certain congressional committees every 90 days following enactment of ARRA on the status and progress of projects funded or proposed for funding under the Act with respect to compliance with the National Environmental Policy Act (NEPA) and its implementing regulations. FTA may request assistance from grant recipients in compiling this quarterly report.

8. Other Reporting

To satisfy the needs for transparency and accountability related to funding appropriated under the ARRA, grantees may be required to provide additional information not yet specified in response to requests from the Office of Management and Budget (OMB), the Congressional Budget Office (CBO), the Government Accountability Office (GAO), or the DOT Inspector General (IG). FTA will inform grantees if and when such additional reports are required.

E. Technical Assistance

FTA headquarters and regional staff are pleased to answer your questions and provide any technical assistance you may need to apply for FTA ARRA funds and to manage the grants you receive. In addition to this notice, Questions and Answers regarding FTA's implementation of the ARRA, and additional resources may be viewed via the FTA Web site http://www.fta.dot.gov/economicrecovery. Further, all FTA circulars are posted on our Web site, including: C4220.1F, Third Party Contracting Requirements, dated November 1, 2008; and C5010.1D, Grant Management Guidelines (November 1, 2008). In addition, FTA has developed a toll-free hotline for civil rights-related ARRA inquiries. The number is 866-525-5561 and is available at http://www.fta.dot.gov/civil_rights.html. You may also contact the regional civil rights officer at the Regional Office listed in Appendix B.

Issued in Washington, DC, this 6th day of May, 2009.
Matthew J. Welbes,
Acting Deputy Administrator.

Appendix A

Instructions for Preparing a Grant Application Using ARRA Funds

1. Pre-Application Stage

Note: To streamline the grant development process, ARRA grants may receive official grant numbers and be submitted before all traditional pre-application requirements are complete. However, ARRA grants may not be awarded until all pre-application requirements have been satisfied.

a. Planning. Project activities to be funded must be included in a Federally-approved Statewide Transportation Improvement Program (STIP) for capital and/or operating projects. Unified Planning Work Program (UPWP) FTA will not require that planning requirements be completed before the submission of grant applications for ARRA funding. However, project planning requirements must be complete and properly documented before grant award.

b. Environmental Determination. The impact that a proposed FTA assisted project will have on the environment shall be evaluated and documented in accordance with the National Environmental Policy Act of 1969 (42 U.S.C. section 4321 et seq.). All projects allocated Capital Investment (New Starts) funding under the ARRA should have a ROD or FONSI on file.

c. Annual Submission of Certifications and Assurances. A grant applicant applying for assistance under Federal Transit Programs including ARRA programs must submit certifications and assurances that are applicable to the grant applicant's active and new grants during the fiscal year. A grantee that has already submitted a FY 2009 Certifications and Assurances does not need to resubmit these assurances.

d. Civil Rights Submissions. Civil Rights submissions that may be required include a Title VI Plan, Equal Employment Opportunity (EEO) Program, Disadvantaged Business Enterprise (DBE) Program, and ADA Paratransit Plan. Typically, FTA's Regional Civil Rights Officer must verify that all required Civil Rights submissions are current at the time that the grant application is entered into TEAM. For ARRA funds, the grant number will be assigned before civil rights reviews are complete, but the grant will not be awarded with pending civil rights requirements. In addition, it may be necessary to verify compliance with specific Title VI, EEO, DBE and ADA requirements as part of the grant review and approval process. Please work closely with your Regional Civil Rights officer to ensure no delays in the award of a grant.

2. Application Stage (Team Information)

Applications for ARRA New Starts funds must be submitted electronically through the Transportation Electronic Award Management (TEAM) System. Each ARRA program funding request must be applied for in its own grant (i.e., ARRA Capital Assistance Formula funds may not be applied for in the same grant as ARRA Fixed Guideway Modernization funds or ARRA Capital Investment funds). Further, ARRA funds cannot be commingled in a grant application with New Starts funds apportioned under SAFETEA-LU.

ARRA Capital Investment grants should be developed using the newly created Section code in TEAM. ARRA program codes appear in the color red in the TEAM dropdown menu. The red is only to distinguish the ARRA section codes from other FTA program codes. A Capital Investment (New Starts) ARRA grant should be developed using the following section code:

36—New Start-Economic Recovery.

Information that should be entered into TEAM when preparing an application includes:

a. Recipient Information. Applicants should enter or update all required information about the organization in the appropriate fields in TEAM, including recipient address, contact information, union information, urbanized area identification number (UZA), Congressional district(s), DUNS number, etc. The information shall be current and accurate for each grant and periodically updated as changes occur.

b. Project Information. Applicants should identify the project start/end date, program date, Executive Order 12372 review date, metropolitan planning organization (MPO) concurrence date (if applicable), and grant project costs. The “brief project description” field should include information that can be used to report the type of infrastructure investment such as: Construction of Light Rail System.

(1) Project Description. This information must be in sufficient detail for FTA to obtain a general understanding of the nature and purpose of the planned activities. There is a project description field as well as a specific text field for this information associated with each activity line item. Project activities shall be sufficiently described to assist the reviewer in determining eligibility under the program.

(2) Program Date and Page of STIP or Unified Planning Work Program (UPWP). All projects must be included in the current STIP. The STIP is jointly approved by FTA and FHWA. FTA funds cannot be obligated unless the STIP is approved by FTA. The application should note the page(s) in the most recently approved STIP on which the project(s) contained in the application are listed. The electronic system has a field designated “program date” where the date of the most recent FTA/FHWA STIP approval should be entered.

In the case of ARRA grants, FTA regional offices will continue to process grants while awaiting STIP amendment actions. Grant numbers will be assigned before the inclusion of the STIP date in the grant application if the grantee is awaiting formal STIP action or approval.

c. Budget. The appropriate scopes and activity line items (ALI) should be used when developing the project budget. All sources of funds shall be identified and confirmed. All rolling stock procurements shall include vehicle description and fuel type; expansion activities shall include a brief discussion of the expanded service. The project budget should reflect the precise activities for which the grant funds will be used. As a streamlining measure, FTA is not requiring that grantees include any non-add scopes in the project budget when purchasing activities that are categorized as ITS, ADA, or security.

d. Project Milestones. Estimated completion dates for all milestones should be provided and updated quarterly. If milestones are not pre-populated by the TEAM system for a particular activity line item (ALI) , use the add function to add milestones for that ALI to the grant application. At a minimum, activities that will require a contract award should have milestones tracking (1) the date the RFP is issued; (2) the anticipated date of contract award; and (3) the date the contract will be completed. Activity line items that are not contracted out should minimally include (1) the date the activity is initiated and (2) the anticipated completion date.

It is critical that milestones for ARRA grant activities are updated and monitored quarterly. Quarterly reports must be submitted 10 days after the end of each quarter.

e. Environmental Findings. The application must include a proposed classification of each ALI that is an independent project with discrete transit utility, in accordance with the FTA/FHWA environmental impact procedures. (See 23 CFR 771.115 and 771.117.) The date of the ROD or FONSI for the New Start project should be listed in the Environmental Findings.

f. Fleet Status. A fleet status report does not need to be included in the ARRA Capital Investment grant application. Fleet information should be contained in the fleet management plan.

g. Application Submission. Once FTA deems (1) the TEAM application template completed, (2) the activities eligible, and (3) the budget complete and firm, FTA will assign a grant number. At this point, the grant is ready to be pinned and submitted in TEAM by the designated recipient/grantee. As previously stated, ARRA grants may be submitted prior to the completion of all pre-application requirements such as: Civil Rights documentation, Planning, ARRA required certifications. This concurrent review process is a departure from FTA's standard operating procedures and only applies to grants for ARRA program funds.

Note: Although ARRA program grants can be officially submitted to FTA for review and approval, grant funds can not be awarded or obligated until all applicable federal requirements including the Section 1511 certification required under ARRA have been met.

h. Certification of Labor Protective Arrangements. ARRA Capital Investment grants will be sent to DOL, as soon as the budget is confirmed, budget details are included in the grant, and the application is officially submitted for processing. DOL procedures have minimum wait times built in for replies or objections by management and unions. Accordingly, a grantee's prompt response to DOL communications regarding the grant before the expiration of the minimum wait period could result in the grant being certified before the end of the allowable processing period.

i. Grant Approval. Once FTA staff determines through a final review of the application that FTA program requirements have been met and that the ARRA section 1511 certification is made and submitted to DOT for posting to the DOT Recovery Web site, FTA will reserve the funds and obligate the grant.

j. Grant Execution. After FTA has awarded the grant, the applicant must execute the award before funds can be drawn down from the grant. Before executing ARRA grants, the grantee will be prompted to select both the rationale for the investment and the purpose of the investment from menus that have been established in the reservation screen. ARRA grants that include activities funded using pre-award authority will require the submission of a Financial Status Report before grant execution.

Application Checklist

Part I—Recipient Information

1. Is the Grantee Contact & Other Information current and complete?

2. Are Annual Certifications & Assurances pinned?

3. Is UZA/Congressional District information entered and accurate?

4. Is Union Contact information entered and accurate?

5. Has Civil Rights Program Documentation been approved by FTA?

6. Has the applicants DUNS Number been entered in the appropriate field?

Part II—Project Details

1. Does the Project Description include adequate descriptive information of funded projects?

2. Are the project activities included in the grant eligible to be funded using ARRA Capital Investment Program funds?

Part III—Project Information

1. Has the grant been identified as a new application or amendment?

2. Start/End date entered?

3. Has the Program Date (STIP or UPWP date) been entered?

4. Have Control Totals been entered?

5. Does the brief project description field adequately articulate what is being funded (Example: Construction of Light Rail System, Bus Rapid Transit Vehicles, and etc.)?

6. If pre-award authority is applicable, has “yes” been selected?

7. Has the EO 12372 Review field been completed, if applicable?

Part IV—Budget

1. Are ALI codes entered under the appropriate scope codes?

2. Is grant for up to 80% Federal funds?

3. Does the funding amount entered in the budget match financial information entered in the control totals in the “Project Information” field?

4. Does the rolling stock (vehicle) line item contain accurate information such as?

a. Description of vehicles purchased.

b. Fuel Type.

5. Have details been entered into the “Extended Budget Descriptions?”

a. Has descriptive information been added in the details section of each ALI that identifies the items being funded using the line item?

Part V—Project Milestones

1. Are milestones listed for each ALI? (If an ALI does not have milestones, they should be added.)

2. Have estimated completion dates been entered?

Part VI—Environmental Findings (NEPA)

1. Has an environmental finding been entered for each ALI?

Appendix B

FTA Regional and Metropolitan Offices

Richard H. Doyle, Regional Administrator, Region 1—Boston, Kendall Square, 55 Broadway, Suite 920, Cambridge, MA 02142-1093. Tel. 617-494-2055 | Robert C. Patrick, Regional Administrator, Region 6—Ft. Worth, 819 Taylor Street, Room 8A36, Ft. Worth, TX 76102. Tel. 817-978-0550.
States served: Connecticut, Maine, Massachusetts, New Hampshire, Rhode Island, and Vermont | States served: Arkansas, Louisiana, Oklahoma, New Mexico and Texas.
Brigid Hynes-Cherin, Regional Administrator, Region 2—New York, One Bowling Green, Room 429, New York, NY 10004-1415. Tel. No. 212-668-2170 | Mokhtee Ahmad, Regional Administrator, Region 7—Kansas City, MO, 901 Locust Street, Room 404, Kansas City, MO 64106. Tel. 816-329-3920.
States served: New Jersey, New York | States served: Iowa, Kansas, Missouri, and Nebraska.
New York Metropolitan Office, Region 2—New York, One Bowling Green, Room 428, New York, NY 10004-1415. Tel. 212-668-2202
Letitia Thompson, Regional Administrator, Region 3—Philadelphia, 1760 Market Street, Suite 500, Philadelphia, PA 19103-4124. Tel. 215-656-7100 | Terry Rosapep, Regional Administrator, Region 8—Denver, 12300 West Dakota Ave., Suite 310, Lakewood, CO 80228-2583. Tel. 720-963-3300.
States served: Delaware, Maryland, Pennsylvania, Virginia, West Virginia, and District of Columbia | States served: Colorado, Montana, North Dakota, South Dakota, Utah, and Wyoming.
Philadelphia Metropolitan Office, Region 3—Philadelphia, 1760 Market Street, Suite 500, Philadelphia, PA 19103-4124. Tel. 215-656-7070
Washington, DC Metropolitan Office, 1990 K Street, NW., Room 510, Washington, DC 20006. Tel. 202-219-3562
Yvette Taylor, Regional Administrator, Region 4—Atlanta, 230 Peachtree Street, NW., Suite 800, Atlanta, GA 30303. Tel. 404-865-5600 | Leslie T. Rogers, Regional Administrator, Region 9—San Francisco, 201 Mission Street, Room 1650, San Francisco, CA 94105-1926. Tel. 415-744-3133.
States served: Alabama, Florida, Georgia, Kentucky, Mississippi, North Carolina, Puerto Rico, South Carolina, Tennessee, and Virgin Islands | States served: American Samoa, Arizona, California, Guam, Hawaii, Nevada, and the Northern Mariana Islands.
| Los Angeles Metropolitan Office, Region 9—Los Angeles, 888 S. Figueroa Street, Suite 1850, Los Angeles, CA 90017-1850. Tel. 213-202-3952.
Marisol Simon, Regional Administrator, Region 5—Chicago, 200 West Adams Street, Suite 320, Chicago, IL 60606. Tel. 312-353-2789 | Rick Krochalis, Regional Administrator, Region 10-Seattle, Jackson Federal Building, 915 Second Avenue, Suite 3142, Seattle, WA 98174-1002. Tel. 206-220-7954.
States served: Illinois, Indiana, Michigan, Minnesota, Ohio, and Wisconsin | States served: Alaska, Idaho, Oregon, and Washington.
Chicago Metropolitan Office, Region 5—Chicago, 200 West Adams Street, Suite 320, Chicago, IL 60606. Tel. 312-353-2789

[FR Doc. E9-10963 Filed 5-8-09; 8:45 am]

BILLING CODE P